DEPARTMENT OF COMMERCE

International Trade Administration

[A-552-812]

Steel Wire Garment Hangers From the Socialist Republic of Vietnam: Antidumping Duty Order

AGENCY: Import Administration, International Trade Administration, Department of Commerce.

SUMMARY: Based on affirmative final determinations by the Department of Commerce (“the Department”) and the International Trade Commission (“ITC”), the Department is issuing an antidumping duty order on steel wire garment hangers from the Socialist Republic of Vietnam (“Vietnam”).

DATES: Effective Date: February 5, 2013.

FOR FURTHER INFORMATION CONTACT: Irene Gorelik, AD/CVD Operations, Office 9, Import Administration, International Trade Administration, U.S. Department of Commerce, 14th Street and Constitution Avenue NW., Washington, DC 20230; telephone: (202) 482-6905.

SUPPLEMENTARY INFORMATION:

Background

On December 26, 2012, the Department published its affirmative final determination of sales at less than fair value in the antidumping duty investigation of steel wire garment hangers from Vietnam.¹ On January 28, 2013, pursuant to section 735(d) of the Tariff Act of 1930, as amended (“the Act”), the ITC notified the Department of its final determination that an industry in the United States is materially injured within the meaning of section 735(b)(1)(A)(i) of the Act by reason of less-than-fair-value imports of steel wire garment hangers from Vietnam.² In addition, the ITC notified the Department of its final determination that critical circumstances do not exist with respect to imports of steel wire garment hangers from Vietnam that are subject to the Department's final affirmative critical circumstances finding. Pursuant to section 736(a) of the Act, the Department is publishing an antidumping duty order on the subject merchandise.

¹ See Steel Wire Garment Hangers From the Socialist Republic of Vietnam: Final Determination of Sales at Less Than Fair Value and Final Affirmative Determination of Critical Circumstances, 77 FR 75980 (December 26, 2012) (“Vietnam Hangers Final Determination”).

² See Steel Wire Garment Hangers from Vietnam, Investigation Nos. 701-TA-487 and 731-TA-1198, USITC Pub. 4371 (January 2013) (Final).

Scope of the Order

The merchandise subject to this order is steel wire garment hangers, fabricated from carbon steel wire, whether or not galvanized or painted, whether or not coated with latex or epoxy or similar gripping materials, and whether or not fashioned with paper covers or capes (with or without printing) or nonslip features such as saddles or tubes. These products may also be referred to by a commercial designation, such as shirt, suit, strut, caped, or latex (industrial) hangers.

Specifically excluded from the scope of the investigation are (a) Wooden, plastic, and other garment hangers that are not made of steel wire; (b) steel wire garment hangers with swivel hooks; (c) steel wire garment hangers with clips permanently affixed; and (d) chrome plated steel wire garment hangers with a diameter of 3.4 millimeters (“mm”) or greater.

The products subject to the investigation are currently classified under U.S. Harmonized Tariff Schedule (“HTSUS”) subheadings 7326.20.0020 and 7323.99.9080. Although the HTSUS subheadings are provided for convenience and customs purposes, the written description of the merchandise is dispositive.

Antidumping Duty Order

As stated above, on January 28, 2013, in accordance with section 735(d) of the Act, the ITC notified the Department of its final determination that an industry in the United States is materially injured within the meaning of section 735(b)(1)(A)(i) of the Act by reason of less-than-fair-value imports of steel wire garment hangers from Vietnam. Because the ITC determined that imports of steel wire garment hangers from Vietnam are materially injuring a U.S. industry, all unliquidated entries of such merchandise from Vietnam, entered or withdrawn from warehouse, are subject to the assessment of antidumping duties.

In accordance with section 736(a)(1) of the Act, the Department will direct U.S. Customs and Border Protection (“CBP”) to assess, upon further instruction by the Department, antidumping duties equal to the amount by which the normal value of the merchandise exceeds the export price or constructed export price of the merchandise for all relevant entries of steel wire garment hangers from Vietnam. These antidumping duties will be assessed on all unliquidated entries of steel wire garment hangers from Vietnam entered, or withdrawn from warehouse, for consumption on or after August 2, 2012, the publication date of the Preliminary Determination ³ in the Federal Register, but will not include entries occurring after the expiration of the provisional measures period and before publication of the ITC's final injury determination, as further described below.

³ See Steel Wire Garment Hangers From the Socialist Republic of Vietnam: Preliminary Determination of Sales at Less Than Fair Value and Postponement of Final Determination, 77 FR 46044 (August 2, 2012) (“Preliminary Determination”).

Continuation of Suspension of Liquidation

In accordance with section 735(c)(1)(B) of the Act, we will instruct CBP to continue to suspend liquidation on all entries of steel wire garment hangers from Vietnam. We will also instruct CBP to require cash deposits equal to the amounts as indicated below. These instructions suspending liquidation will remain in effect until further notice.

On or after the date of publication of the ITC's notice of final determination in the Federal Register, CBP, pursuant to section 736(a)(3) of the Act, will require, at the same time as importers would normally deposit estimated duties on this merchandise, a cash deposit equal to the estimated dumping margins listed below. The estimated dumping margins for imports of subject merchandise from Vietnam will be adjusted for export subsidies found in the final determination of the companion countervailing duty investigation of this merchandise imported from the Vietnam.⁴

⁴ See Certain Steel Wire Garment Hangers From the Socialist Republic of Vietnam: Final Affirmative Countervailing Duty Determination and Final Affirmative Critical Circumstances Determination, 77 FR 75973 (December 26, 2012); see also Vietnam Hangers Final Determination, 77 FR at 75984.

Provisional Measures

Section 733(d) of the Act states that suspension of liquidation instructions issued pursuant to an affirmative preliminary determination may not remain in effect for more than four months except where exporters representing a significant proportion of exports of the subject merchandise request the Department to extend that four-month period to no more than six months. At the request of the exporters that accounted for a significant proportion of exports of the subject merchandise in the investigations of steel wire garment hangers from Vietnam, we extended the four-month period to no more than six months.⁵

⁵ See Preliminary Determination, 77 FR at 46054-55; and Steel Wire Garment Hangers From the Socialist Republic of Vietnam: Preliminary Affirmative Determination of Critical Circumstances in the Antidumping Duty Investigation, 77 FR 51514 (August 24, 2012).

In this investigation, the six-month period beginning on the date of the publication of the preliminary determination (i.e., August 2, 2012) ended on January 29, 2013. Furthermore, section 737(b) of the Act states that definitive duties are to begin on the date of publication of the ITC's final injury determination. Therefore, in accordance with section 733(d) of the Act, we will instruct CBP to terminate the suspension of liquidation and to liquidate, without regard to antidumping duties, unliquidated entries of steel wire garment hangers from Vietnam entered, or withdrawn from warehouse, for consumption on or after January 30, 2013, and through the day preceding the date of publication of the ITC's final injury determination in the Federal Register. Suspension of liquidation will resume on or after the date of publication of the ITC's final injury determination in the Federal Register.

The dumping margins are as follows:

Exporter | Producer | Margin (percent)
CTN Limited Company | CTN Limited Company | 157.00
Ju Fu Co., Ltd | Ju Fu Co., Ltd | 157.00
Triloan Hangers, Inc | Triloan Hangers, Inc | 157.00
Vietnam-Wide Entity ⁶ | 220.68

With regard to the ITC's negative critical circumstances determination on imports of steel wire garment hangers from Vietnam, we will instruct CBP to lift suspension and to refund any cash deposit made, to secure the payment of estimated antidumping duties with respect to entries of the merchandise entered, or withdrawn from warehouse, for consumption on or after May 4, 2012 (i.e., 90 days prior to the publication date of the Preliminary Determination), but before August 2, 2012, the publication date of the Preliminary Determination.

⁶ The Vietnam-wide entity includes South East Asia Hamico Export Joint Stock Company, the TJ Group (consisting of the Pre-Supreme Entity, Infinite Industrial Hanger Limited, and TJ Co., Ltd.) and the following companies: Acton Co., Ltd.; Angang Clothes Rack Manufacture Co.; Asmara Home Vietnam; B2B Co., Ltd.; Capco Wai Shing Viet Nam Co., Ltd.; Dai Nam Investment JSC; Diep Son Hangers One Member Co. Ltd.; Dong Nam A Co., Ltd.; Dong Nam A Trading Co.; EST Glory Industrial Ltd.; Focus Shipping Corp.; Godoxa Viet Nam Ltd.; HCMC General Import And Export Investment JSC; Hongxiang Business And Product Co., Ltd.; Linh Sa Hamico Company, Ltd.; Minh Quang Steel Joint Stock Company; Moc Viet Manufacture Co., Ltd.; Nam A Hamico Export Joint Stock; N-Tech Vina Co., Ltd.; NV Hanger Co., Ltd. (A/K/A Nguyen Hoang Vu Co., Ltd.); Ocean Star Transport Co., Ltd.; Quoc Ha Production Trading Service; Quyky (Factory); Quyky Group/Quyky Co., Ltd./Quyky-Yanglei International Co., Ltd.; S.I.I.C.; Tan Minh Textile Sewing Trading Co., Ltd.; Thanh Hieu Manufacturing Trading Co. Ltd.; The Xuong Co., Ltd.; Thien Ngon Printing Co., Ltd.; Top Sharp International Trading Limited; Trung Viet My Joint Stock Company; Viet Anh Imp-Exp Joint Stock Co.; Viet Hanger Investment, LLC/Viet Hanger; Vietnam Hangers Joint Stock Company; VNS/VN Sourcing/Vietnam Sourcing; and Yen Trang Co., Ltd.

This notice constitutes the antidumping duty order with respect to steel wire garment from Vietnam, pursuant to section 736(a) of the Act. Interested parties may find an updated list of antidumping duty orders currently in effect at http://ia.ita.doc.gov/stats/iastats1.html.

This order is published in accordance with section 736(a) of the Act and 19 CFR 351.211(b).

Dated: January 30, 2013.
Paul Piquado,
Assistant Secretary for Import Administration.

[FR Doc. 2013-02637 Filed 2-4-13; 8:45 am]

BILLING CODE 3510-DS-P